DEPARTMENT OF ENERGY

Federal Energy Regulatory Commission

Combined Notice of Filings #1

February 05, 2009.

Take notice that the Commission received the following electric rate filings:

Docket Numbers: ER08-1252-002.

Applicants: Midwest Independent Transmission System Operator, Inc.

Description: Midwest Independent Transmission System Operator, Inc submits revisions to its Open Access Transmission, Energy and Operating Reserve Markets Tariff in compliance with the Commission's 12/29/08 Order.

Filed Date: 01/30/2009.

Accession Number: 20090203-0169.

Comment Date: 5 p.m. Eastern Time on Friday, February 20, 2009.

Docket Numbers: ER09-92-001.

Applicants: Southern Company Services, Inc.

Description: Southern Company Services, Inc submits First Revised Sheet to FERC Electric Tariff, Original Volume 1 in compliance with the Commission's 12/31/08 Order.

Filed Date: 01/30/2009.

Accession Number: 20090203-0167.

Comment Date: 5 p.m. Eastern Time on Friday, February 20, 2009.

Docket Numbers: ER09-226-001.

Applicants: ALLETE, Inc.

Description: ALLETE, Inc responds to FERC's 12/31/08 deficiency letter.

Filed Date: 01/30/2009.

Accession Number: 20090203-0201.

Comment Date: 5 p.m. Eastern Time on Thursday, February 12, 2009.

Docket Numbers: ER09-591-000.

Applicants: Nalcor Energy.

Description: Petition of Nalcor Energy for order accepting market-based rate tariff for filing, granting waivers and blanket approvals.

Filed Date: 01/30/2009.

Accession Number: 20090203-0029.

Comment Date: 5 p.m. Eastern Time on Friday, February 20, 2009.

Docket Numbers: ER09-594-000.

Applicants: Coaltrain Energy LP.

Description: Coaltrain Energy LP submits Application for Order Accepting Initial Tariff and Granting Category 1 Status and Certain Waivers and Blanket Approvals etc.

Filed Date: 01/30/2009.

Accession Number: 20090202-0619.

Comment Date: 5 p.m. Eastern Time on Friday, February 20, 2009.

Docket Numbers: ER09-595-000.

Applicants: Gotham Energy Marketing LP.

Description: Gotham Energy Marketing LP submits an Application of Gotham for Order Accepting Initial Tariff and Granting Category 1 Status and Certain Waivers and Blanket Approvals etc.

Filed Date: 01/30/2009.

Accession Number: 20090202-0617.

Comment Date: 5 p.m. Eastern Time on Friday, February 20, 2009.

Docket Numbers: ER09-596-000.

Applicants: Silverado Energy LP.

Description: Silverado Energy, LP submits an application for order accepting initial tariffs and granting Category 1 Status and certain waivers and blanket approvals.

Filed Date: 01/30/2009.

Accession Number: 20090202-0615.

Comment Date: 5 p.m. Eastern Time on Friday, February 20, 2009.

Docket Numbers: ER09-597-000.

Applicants: Rockpile Energy LP.

Description: Rockpile Energy LP submits Application for Order Accepting Initial Tariff and Granting Category 1 Status and certain Waivers and Blanket Approvals.

Filed Date: 01/30/2009.

Accession Number: 20090202-0613.

Comment Date: 5 p.m. Eastern Time on Friday, February 20, 2009.

Docket Numbers: ER09-598-000.

Applicants: Big Bog Energy LP.

Description: Big Bog Energy, LP submits an application for order accepting initial tariff and granting Category 1 Status and certain waivers and blanket approvals.

Filed Date: 01/30/2009.

Accession Number: 20090202-0611.

Comment Date: 5 p.m. Eastern Time on Friday, February 20, 2009.

Docket Numbers: ER09-600-000.

Applicants: Trans-Allegheny Interstate Line Company.

Description: Trans-Allegheny Interstate Line Company submits proposed revisions to First Revised Sheet 3141.02 et al. of the Open Access Transmission Tariff of PJM Interconnection, LLC, FERC Electric Tariff, Sixth Revised Volume 1.

Filed Date: 01/30/2009.

Accession Number: 20090203-0003.

Comment Date: 5 p.m. Eastern Time on Friday, February 20, 2009.

Docket Numbers: ER09-601-000.

Applicants: San Diego Gas & Electric Company.

Description: San Diego Gas & Electric Company submits its application for the approval of an increase in the Fixed Change Rate etc.

Filed Date: 01/30/2009.

Accession Number: 20090203-0121.

Comment Date: 5 p.m. Eastern Time on Friday, February 20, 2009.

Docket Numbers: ER09-604-000.

Applicants: UNS Electric, Inc.

Description: UNS Electric, Inc submits revisions to its Open Access Transmission Tariff to incorporate by reference standards promulgated by the North American Energy Standards Board, and request waiver of one NAESB standard etc.

Filed Date: 01/30/2009.

Accession Number: 20090203-0006.

Comment Date: 5 p.m. Eastern Time on Friday, February 20, 2009.

Docket Numbers: ER09-605-000.

Applicants: Public Service Company of New Mexico.

Description: Public Service Company of New Mexico submits revisions to its Second Revised Volume 6 of their Open Access Transmission Tariff pursuant to FERC's 7/21/08 Order and Request for Waiver etc.

Filed Date: 01/30/2009.

Accession Number: 20090203-0007.

Comment Date: 5 p.m. Eastern Time on Friday, February 20, 2009.

Docket Numbers: ER09-606-000.

Applicants: Duke Energy Carolinas, LLC.

Description: Duke Energy Carolinas, LLC submits seven Network Integration Transmission Service Agreements for Network Integration Transmission Service with the City of Concord, NC et al.

Filed Date: 01/30/2009.

Accession Number: 20090203-0116.

Comment Date: 5 p.m. Eastern Time on Friday, February 20, 2009.

Docket Numbers: ER09-607-000.

Applicants: Florida Power & Light Co.

Description: Florida Power & Light Company submits Fourth Revised Tariff Sheet 505 and Second Revised Sheet 506 to its Open Access Transmission Tariff pursuant to Order 676-C.

Filed Date: 01/30/2009.

Accession Number: 20090203-0008.

Comment Date: 5 p.m. Eastern Time on Friday, February 20, 2009.

Docket Numbers: ER09-608-000.

Applicants: Tucson Electric Power Company.

Description: Tucson Electric Power Company submits revisions to its Open Access Transmission Tariff and Request for Waiver pursuant to the Commission's 7/21/08 Order.

Filed Date: 01/30/2009.

Accession Number: 20090203-0010.

Comment Date: 5 p.m. Eastern Time on Friday, February 20, 2009.

Docket Numbers: ER09-609-000.

Applicants: Central Power & Lime LLC.

Description: Central Power & Lime LLC submits a Notice of Succession.

Filed Date: 01/30/2009.

Accession Number: 20090203-0028.

Comment Date: 5 p.m. Eastern Time on Friday, February 20, 2009.

Docket Numbers: ER09-610-000; ER09-611-000.

Applicants: CalPeak Power—El Cajon, LLC; CalPeak Power—Border LLC.

Description: CalPeak Entities submits modifications to the Reliability Must-Run Service Agreement with the California Independent System Operator Corp under ER09-610 et al.

Filed Date: 01/30/2009.

Accession Number: 20090203-0027.

Comment Date: 5 p.m. Eastern Time on Friday, February 20, 2009.

Docket Numbers: ER09-612-000.

Applicants: Entergy Services, Inc.

Description: Entergy Arkansas Inc and Union Electric Co submits a joint notice of termination.

Filed Date: 01/30/2009.

Accession Number: 20090203-0026.

Comment Date: 5 p.m. Eastern Time on Friday, February 20, 2009.

Docket Numbers: ER09-613-000.

Applicants: Cross-Sound Cable Company, LLC.

Description: Cross-Sound Cable Co, LLC submits an Order No. 676-C compliance filing and request for waiver of certain WEQ Standards.

Filed Date: 01/30/2009.

Accession Number: 20090203-0023.

Comment Date: 5 p.m. Eastern Time on Friday, February 20, 2009.

Docket Numbers: ER09-616-000; ER09-617-000; ER09-618-000.

Applicants: Susquehanna Electric Company; Susquehanna Power Company; PECO Energy Power Company.

Description: Exelon Generation Company, LLC on behalf of Susquehanna Electric Co et al. submits Notice of Cancellation of Rate Schedule FERC 1, 2, and 4 et al., effective 1/1/09.

Filed Date: 01/30/2009.

Accession Number: 20090203-0112.

Comment Date: 5 p.m. Eastern Time on Friday, February 20, 2009.

Docket Numbers: ER09-619-000.

Applicants: Xcel Energy Services Inc.

Description: Xcel Energy Services Inc submits amended rate sheets to the Market Interface Integration Services Agreement with Tatanka Wind Power LLC, to be effective 2/1/09.

Filed Date: 01/30/2009.

Accession Number: 20090203-0113.

Comment Date: 5 p.m. Eastern Time on Friday, February 20, 2009.

Docket Numbers: ER09-620-000.

Applicants: New England Power Pool.

Description: New England Power Pool submits counterpart signature pages of the New England Power Pool Agreement dated as of 9/1/71.

Filed Date: 01/30/2009.

Accession Number: 20090203-0111.

Comment Date: 5 p.m. Eastern Time on Friday, February 20, 2009.

Docket Numbers: ER09-621-000; ER09-622-000; ER07-1119-006.

Applicants: TAQA Gen X LLC.

Description: TAQA Gen X LLC submits notice of change in status in connection with the recent acquisition by TAQA Gen X LP from BE Investment Holding Inc of 100% of indirect ownership interests in TGX LLC.

Filed Date: 01/30/2009.

Accession Number: 20090203-0109.

Comment Date: 5 p.m. Eastern Time on Friday, February 20, 2009.

Docket Numbers: ER09-623-000.

Applicants: Pacific Gas and Electric Company.

Description: Pacific Gas and Electric Company submits unexecuted modifications to Service Agreement 42 for Network Integration Transmission Service with San Francisco Bay Area Rapid Transit District etc.

Filed Date: 01/30/2009.

Accession Number: 20090203-0110.

Comment Date: 5 p.m. Eastern Time on Friday, February 20, 2009.

Docket Numbers: ER09-624-000.

Applicants: Pacific Gas and Electric Company.

Description: Pacific Gas and Electric Company submits modifications to PG&E's Grid Management Charge Pass Through Tariff.

Filed Date: 01/30/2009.

Accession Number: 20090203-0114.

Comment Date: 5 p.m. Eastern Time on Friday, February 20, 2009.

Docket Numbers: ER09-625-000.

Applicants: Pacific Gas and Electric Company.

Description: Pacific Gas and Electric Co submits Notice of Cancellation of Rate Schedule 116, the Interconnection Agreement with Modesto Irrigation District.

Filed Date: 01/30/2009.

Accession Number: 20090203-0115.

Comment Date: 5 p.m. Eastern Time on Friday, February 20, 2009.

Docket Numbers: ER09-626-000.

Applicants: Participating Transmission Owners.

Description: Participating Transmission Owners et al. request waiver of certain business practice standards in Version 001 adopted by the Wholesale Electric Quadrant of the North American Energy Standards Board etc pursuant to Order 676-C.

Filed Date: 01/30/2009.

Accession Number: 20090203-0142.

Comment Date: 5 p.m. Eastern Time on Friday, February 20, 2009.

Docket Numbers: ER09-627-000.

Applicants: Niagara Mohawk Power Corporation.

Description: Niagara Mohawk Power Corporation et al. submits an Energy Delivery Agreement with Salamanca Board of Public Utilities executed in August 2002.

Filed Date: 01/30/2009.

Accession Number: 20090203-0141.

Comment Date: 5 p.m. Eastern Time on Friday, February 20, 2009.

Docket Numbers: ER09-628-000.

Applicants: National Grid Generation LLC.

Description: National Grid Generation LLC submits the Section 205 Rate Filing re revisions to its FERC Electric Rate Schedule No. 1.

Filed Date: 01/30/2009.

Accession Number: 20090203-0264.

Comment Date: 5 p.m. Eastern Time on Friday, February 20, 2009.

Docket Numbers: ER09-629-000.

Applicants: Dynegy Marketing and Trade, LLC.

Description: Dynegy Marketing and Trade, LLC submits Notice of Succession to notify the Commission of a corporate name change and revisions to their market-based rate tariff to reflect the name change.

Filed Date: 01/30/2009.

Accession Number: 20090203-0143.

Comment Date: 5 p.m. Eastern Time on Friday, February 20, 2009.

Docket Numbers: ER09-630-000.

Applicants: Southern California Edison Company.

Description: Southern California Edison Company submits a revised rate sheet to the Amended and Restated Mandalay Generating Station Radial Lines Agreement with Reliant Energy Mandalay, Inc.

Filed Date: 01/30/2009.

Accession Number: 20090203-0150.

Comment Date: 5 p.m. Eastern Time on Friday, February 20, 2009.

Docket Numbers: ER09-631-000.

Applicants: PJM Interconnection L.L.C.

Description: PJM Interconnection, LLC submits revisions to PJM's Open Access Transmission Tariff etc.

Filed Date: 01/30/2009.

Accession Number: 20090203-0149.

Comment Date: 5 p.m. Eastern Time on Friday, February 20, 2009.

Docket Numbers: ER09-640-000.

Applicants: ISO New England Inc. & New England Power.

Description: ISO New England Inc et al. submits transmittal letter and related materials, which identify the Installed Capacity Requirement, etc.

Filed Date: 01/30/2009.

Accession Number: 20090203-0165.

Comment Date: 5 p.m. Eastern Time on Friday, February 20, 2009.

Docket Numbers: ER09-642-000.

Applicants: Niagara Mohawk Power Corporation.

Description: Niagara Mohawk Power Corporation et al. submits an amendment dated 6/11/09 between Niagara Mohawk and Huntley Power LLC which amends an interconnection agreement between the same parties.

Filed Date: 01/30/2009.

Accession Number: 20090203-0163.

Comment Date: 5 p.m. Eastern Time on Friday, February 20, 2009.

Docket Numbers: ER09-651-000.

Applicants: El Paso Electric Company.

Description: El Paso Electric Company, Order No. 676-C Compliance Filing.

Filed Date: 01/30/2009.

Accession Number: 20090130-5156.

Comment Date: 5 p.m. Eastern Time on Friday, February 20, 2009.

Take notice that the Commission received the following open access transmission tariff filings:

Docket Numbers: OA08-69-003.

Applicants: Tucson Electric Power Company.

Description: Tucson Electric Power Company submits Third Revised Sheet 78 et al. to FERC Electric Tariff, Fourth Revised Volume 2 to its Open Access Transmission in compliance with FERC's 12/2/08 Letter Order under OA08-69.

Filed Date: 01/30/2009.

Accession Number: 20090203-0009.

Comment Date: 5 p.m. Eastern Time on Friday, February 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-3247 Filed 2-13-09; 8:45 am]

BILLING CODE 6717-01-P